DEPARTMENT OF TRANSPORTATION

Federal Motor Carrier Safety Administration

[Docket No. FMCSA-2023-0055]

Agency Information Collection Activities; Renewal of an Approved Information Collection: Training Certification for Entry-Level Commercial Motor Vehicle Operators

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. The ICR, titled “Training Certification for Entry-Level Commercial Motor Vehicle Operators,” will continue to be used to register providers of entry-level driver training and to provide State Drivers' Licensing Agencies with information on individuals who have completed the required training. If approved, this renewal will allow FMCSA to continue to collect information on registered training providers and entry-level driver training certification information until 2026.

DATES: Comments on this notice must be received on or before July 24, 2023.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Joshua Jones, Commercial Driver's License Division, DOT, FMCSA, West Building 6th Floor, 1200 New Jersey Avenue SE, Washington, DC 20590-0001; 202-366-7332; Joshua.jones@dot.gov.

SUPPLEMENTARY INFORMATION:

Title: Training Certification for Entry-Level Commercial Motor Vehicle Operators.

OMB Control Number: 2126-0028.

Type of Request: Renewal of a currently-approved ICR.

Respondents: Training providers.

Estimated Number of Respondents: 7,774.

Estimated Time per Response: 0.55 hours.

Expiration Date: June 30, 2023.

Frequency of Response: All training providers must initially register to be listed on the Training Provider Registry (TPR). Additionally, once registered, all training providers must update their information at least biennially in order to remain listed on the TPR. They are also required to provide an update if any key information (company name, address, phone number, types of training offered, etc.) changes prior to their biennial update. After an individual driver-trainee completes training administered by a training provider listed on the Training Provider Registry (TPR), that training provider must submit training certification information regarding the driver-trainee to the TPR.

Estimated Total Annual Burden: 80,299 hours.

Background

The Federal Motor Carrier Safety regulations require minimum training standards for entry-level drivers, and include two separate information collection actions: (1) Training providers must electronically submit registration information to FMCSA's TPR to ensure that they meet the training provider eligibility requirements and may therefore be listed on the TPR; and (2) after an individual driver-trainee completes training administered by a training provider listed on the TPR, that training provider must electronically submit training certification information regarding the driver-trainee to the TPR. (49 CFR part 380, subpart G.) These requirements were implemented February 7, 2022. The information collection estimates included in this renewal action are based on training certification data obtained from the TPR over the past year.

FMCSA received three comments during the 60-day notice comment period. The commenters, the Commission on Proprietary Schools and College Registration (CPSCR), the National Association of State Administrators and Supervisors of Private Schools (NASASPS), Commercial Vehicle Training Association (CVTA) and National Association of Publicly Funded Truck Driving Schools (NAPFTDS). CPSCR stated that “FMCSA should collect more information from TPR registrants to ensure that training providers meet state licensure requirements to validly train in the state” and provided three supporting arguments. NASASPS stated “that FMCSA [. . .] move past a provider registration process that relies wholly on self-certification and require TDTIs to provide documentation of state authorization to operate” and provided six supporting recommendations. The CVTA and NAPFTDS submitted a joint comment recommending FMCSA collect “a copy of state licensure documentation, an identifier for that documentation in the form of a license number, or other documentation that would allow FMCSA to ensure compliance with the state licensure requirement” and “a copy of curriculum documentation (e.g., lesson plans) that would allow FMCSA to ensure compliance with training provider curriculum requirements.”

In response, FMCSA notes that the comments, while pertaining to the information collection, would both require that FMCSA revise the regulations regarding training provider requirements. As these rules have only been in effect for less than two years, no revisions are scheduled at the present time. The Agency notes that when training providers initially register for listing on the TPR, they must certify, under penalty of perjury, that they comply with all applicable regulatory requirements, including the requirement that they be licensed, certified, registered, or authorized to provide training in accordance with the applicable laws and regulations of any State where in-person training is conducted (49 CFR 380.703(5)(i)). Further, in accordance with 49 CFR 380.719(a)(4), to remain eligible for continued listing on the TPR, training providers must maintain documentation of State licensure, registration, or certification verifying that the provider is authorized to provide training in that State, if applicable. If FMCSA or its authorized representative conducts an audit or investigation of a training provider, the training provider's compliance with applicable State requirements would be evaluated. Training providers determined to be non-compliance with State requirements could be subject to a notice of prosed removal from the TPR or emergency removal, depending on the circumstances. The Agency believes these existing requirements sufficiently address training providers' compliance with applicable State requirements.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Thomas P. Keane,
Associate Administrator, Office of Research and Registration.

[FR Doc. 2023-13365 Filed 6-22-23; 8:45 am]

BILLING CODE 4910-EX-P